DEPARTMENT OF TRANSPORTATION

Federal Aviation Administration

Notice of Release From Federal Grant Assurance Obligations for Elko Regional Airport (EKO), Elko, Nevada

AGENCY: Federal Aviation Administration, DOT.

ACTION: Notice of request to release airport land.

SUMMARY: The Federal Aviation Administration (FAA) proposes to rule and invites public comment on the application for a release of approximately 5,037 square feet of airport property at the Elko Municipal Airport (Airport), City of Elko, Nevada. The City of Elko proposes to release the airport land in order to acquire an equal 5,037 square feet parcel of privately-owned land. The land exchange was proposed after a 2011 deed survey disclosed that the airport perimeter fence encroached into private property abutting the airport. Relocation of the fence is not practical due to the cost associated with moving the fence and underground utilities. The parties concluded that the encroachment problem could be resolved with an equitable land exchange. Since the release land is not needed for airport purposes, the exchange will not negatively impact the airport or civil aviation.

DATES: Comments must be received on or before July 31, 2015.

FOR FURTHER INFORMATION CONTACT: Comments on the request may be mailed or delivered to the FAA at the following address Mike N. Williams, Manager, Federal Aviation Administration, Phoenix Airports District Office, Federal Register Comment, 3800 N. Central Avenue, Suite 1025, 10th Floor, Phoenix, Arizona 85012. In addition, one copy of the comment submitted to the FAA must be mailed or delivered to Mr. Mark Gibbs, Airport Director, Elko Regional Airport, 975 Terminal Way, Elko, Nevada 89801.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Elko, Nevada requested a release from sponsor grant assurance obligations for approximately 5,037 square feet of airport land to facilitate a land exchange so the airport can acquire an equal 5,037 square feet of privately-owned land. A land survey conducted in 2011 disclosed that the airport perimeter fence encroached into private property abutting the airport. Relocating the fence line and underground utilities would be costly for the Airport. The City offered to trade a parcel of unused airport land that is not needed for airport purposes for the portion of land into which the airport fence encroaches. The land exchange would conform to Nevada Revised Statutes for Boundary Line Adjustments. Appraisals concluded the two parcels have equal values. As a result, the City and land owner concluded that a land swap would represent an equitable and less expensive way to resolve the encroachment problem. The release land is not needed for airport purposes and land exchange will result in no net loss in value or negative impact for the airport. The reuse of the released parcel for commercial purposes represents a compatible land use that will not interfere with the airport or its operation. The acquisition of the privately owned parcel will obviate the need to relocate the perimeter fence. Therefore, the exchange provides a benefit to the airport and civil aviation.

Issued in Phoenix, Arizona: June 26, 2015.
Mike N. Williams,
Manager, Phoenix Airports District Office, Western-Pacific Region.

[FR Doc. 2015-16207 Filed 6-30-15; 8:45 am]

BILLING CODE 4910-13-P